FEDERAL RESERVE SYSTEM

Notice of Proposals To Engage in Permissible Nonbanking Activities or To Acquire Companies That Are Engaged in Permissible Nonbanking Activities; Correction

This notice corrects two notices (FR Doc. 2015-07170 and FR Doc. 2015-07158) both published on page 16682 of the issue for Monday, March 30, 2015.

Under the Federal Reserve Bank of Chicago heading, the entries for First Business Financial Services, Inc., Madison, Wisconsin, are revised to read as follows:

A. Federal Reserve Bank of Chicago (Colette A. Fried, Assistant Vice President) 230 South LaSalle Street, Chicago, Illinois 60690-1414:

1. First Business Financial Services, Inc., Madison, Wisconsin; to engage de novo in certain community development activities by making a qualifying community welfare investment in a fund of funds, pursuant to section 225.28(b)(12)(i).

Comments on this application must be received by April 14, 2015.

Board of Governors of the Federal Reserve System, April 2, 2015.
Michael J. Lewandowski,
Associate Secretary of the Board.

[FR Doc. 2015-07900 Filed 4-6-15; 8:45 am]

BILLING CODE CODE 6210-01-P